DEPARTMENT OF VETERANS AFFAIRS

Advisory Committee on Cemeteries and Memorials; Notice of Meeting

The Department of Veterans Affairs gives notice under Public Law 92-463 (Federal Advisory Committee Act) that a meeting of the Advisory Committee on Cemeteries and Memorials will be held on November 8-9, 2006. On November 8 the session will be at 811 Vermont Avenue, NW., Washington, DC Room 442 from 8 a.m. until 3:30 p.m. and on November 9, the session will be at 810 Vermont Avenue, NW., Room 430 from 2:30 p.m. until 4 p.m. The meeting is open to the public.

The purpose of the Committee is to advise the Secretary of Veterans Affairs on the administration of national cemeteries, soldiers' lots and plots, the selection of new national cemetery sites, the erection of appropriate memorials, and the adequacy of Federal burial benefits.

On November 8 the Committee will receive updates on National Cemetery Administration issues. On November 9 the Committee will tour the Crownsville (MD) Veterans Cemetery, the Annapolis National Cemetery and the United States Naval Academy Cemetery in the morning, returning to VA central offices for a business session in the afternoon, which will include discussions of Committee recommendations, future meeting sites, and potential agenda topics.

Time will not be allocated for receiving oral presentations from the public. Any member of the public wishing to attend the meeting should contact Mr. Michael Nacincik, Designated Federal Officer, at (202) 273-5221. The Committee will accept written comments. Comments may be transmitted electronically to the Committee at mike.nacincik@mail.va.gov or mailed to the National Cemetery Administration, (41C2), 810 Vermont Avenue, NW., Washington, DC 20420. In the public's communications with the Committee, the writers must identify themselves and state the organizations, associations, or persons they represent.

Dated: September 28, 2006.
By direction of the Secretary
E. Philip Riggin,
Committee Management Officer.

[FR Doc. 06-8487 Filed 10-4-06; 8:45 am]

BILLING CODE 8320-01-M